DEPARTMENT OF ENERGY

Federal Energy Regulatory Commission

[Docket Nos. CP01-76-006, CP01-77-006, RP01-217-003, and CP01-156-003]

Dominion Cove Point LNG, LP; Notice of Compliance Filing

July 24, 2003.

Take notice that on July 16, 2003, Dominion Cove Point LNG, LP. (Cove Point) tendered for filing as part of its FERC Gas Tariff, Original Volume No. 1, the following tariff sheets and requests an effective date of August 16, 2003:

Third Revised Sheet No.229

First Revised Sheet No.230

First Revised Sheet No. 231

First Revised Sheet No. 232

Second Revised Sheet No. 233

First Revised Sheet No. 234

First Revised sheet No. 235

First Revised Sheet No. 236

First Revised Sheet No. 237

Cove Point states that the purpose of the filing is to change the interchangeability indices and adjustment gas as recommended by the TIAX study that was required by the Amendment to the January 2001 Settlement filed in Docket No. CP01-76 and approved by the Commission on February 27, 2003.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 28, 2003.

Magalie R. Salas,
Secretary.

[FR Doc. 03-19377 Filed 7-30-03; 8:45 am]

BILLING CODE 6717-01-P